DEPARTMENT OF ENERGY

Federal Energy Regulatory Commission

Combined Notice of Filings #2

Take notice that the Commission received the following electric corporate filings:

Docket Numbers: EC17-52-000.

Applicants: CPV Shore, LLC, Osaka Gas USA Corporation.

Description: Application For Authorization Under Section 203 Of The Federal Power Act, Request For Waivers, et al. of CPV Shore, LLC, et al.

Filed Date: 12/21/16.

Accession Number: 20161221-5246.

Comments Due: 5 p.m. ET 1/11/17.

Take notice that the Commission received the following electric rate filings:

Docket Numbers: ER13-1930-010.

Applicants: Louisville Gas and Electric Company.

Description: Compliance filing: Errata to Attach K Appendices Record Metadata Correction to be effective1/24/2015.

Filed Date: 12/21/16.

Accession Number: 20161221-5320.

Comments Due: 5 p.m. ET 1/11/17.

Docket Numbers: ER16-1479-002.

Applicants: Kentucky Utilities Company.

Description: Compliance filing: Brown Solar Compliance Filing executed agreements to be effective6/9/2016.

Filed Date: 12/21/16.

Accession Number: 20161221-5270.

Comments Due: 5 p.m. ET 1/11/17.

Docket Numbers: ER17-380-001.

Applicants: Stored Solar J&WE, LLC.

Description: Tariff Amendment: Amendment to pending 1 to be effective 12/1/2016.

Filed Date: 12/21/16.

Accession Number: 20161221-5278.

Comments Due: 5 p.m. ET 1/11/17.

Docket Numbers: ER17-600-000.

Applicants: NorthWestern Corporation.

Description: § 205(d) Rate Filing: SA 290 8th Rev—NITSA with Oldcastle Materials Cement Holdings to be effective 3/1/2017.

Filed Date: 12/21/16.

Accession Number: 20161221-5197.

Comments Due: 5 p.m. ET 1/11/17.

Docket Numbers: ER17-601-000.

Applicants: NorthWestern Corporation.

Description: § 205(d) Rate Filing: SA 304 10th Rev—NITSA with Barretts Minerals to be effective 3/1/2017.

Filed Date: 12/21/16.

Accession Number: 20161221-5205.

Comments Due: 5 p.m. ET 1/11/17.

Docket Numbers: ER17-602-000.

Applicants: NorthWestern Corporation.

Description: § 205(d) Rate Filing: SA 305 8th Rev—NITSA with Stillwater Mining Company to be effective3/1/2017.

Filed Date: 12/21/16.

Accession Number: 20161221-5305.

Comments Due: 5 p.m. ET 1/11/17.

Docket Numbers: ER17-603-000.

Applicants: Bear Swamp Power Company LLC.

Description: § 205(d) Rate Filing: Bear Swamp Market-Based Rate Notice of Change in Status to be effective7/15/2014.

Filed Date: 12/21/16.

Accession Number: 20161221-5317.

Comments Due: 5 p.m. ET 1/11/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2016.
Nathaniel J. Davis, Sr.,
Deputy Secretary.

[FR Doc. 2016-31340 Filed 12-27-16; 8:45 am]

BILLING CODE 6717-01-P